DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by February 10, 2025. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Quick Response for Cooperator-funded Surveys Generic Clearance.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. In addition to the many statistical activities directly related to its mission, the National Agricultural Statistics Service (NASS) will lend technical expertise to other Federal agencies, State governments, land grant universities, and other organizations which have a Memorandum of Understanding with NASS. These entities will be referred to as cooperators. NASS provides support and assistance in the areas of questionnaire & sample design as well as analysis of survey results. NASS would like to include data collection to its list of services, utilizing the existing Cooperative Agreement with the National State Departments of Agriculture (NASDA). The data collection activities in this generic clearance request would be conducted through cooperative agreements with Federal agencies, State departments of agriculture, land-grant universities, or other organizations with which NASS has a Memorandum of Understanding (MOU). The surveys will be conducted under a full-cost recovery basis. These cooperators have sought out NASS's assistance to provide statistics beneficial to agriculture, but are not covered by NASS's annual Congressional appropriation. General authority for conducting cooperative projects is granted under U.S. Code Title 7, Section 450a which states that USDA officials may, “enter into agreements with and receive funds . . . for the purpose of conducting cooperative research projects . . .” This authority has been delegated to NASS. Response to all surveys collected under this generic clearance is voluntary.

NASS benefits from these cooperative agreements by: (1) Obtaining additional data to update its list of farm operators; (2) encouraging both parties to coordinate Federal survey activities and activities funded under a cooperative agreement to reduce the need for overlapping data collection and/or spread-out respondent burden; and (3) facilitating additional promotion of NASS surveys and statistical reports funded by annual Congressional appropriations. Respondents benefit from these cooperative agreements by: (1) Having their reported data protected by Federal Law (U.S. Code title 18, section 1905; U.S. Code title 7, section 2276; and title III of Pub. L. 115-435 codified in 44 U.S.C. ch. 35 and other applicable Federal laws, (CIPSEA)); (2) having data collection activities for Federal and Cooperative surveys coordinated to minimize respondent burden; and (3) having high-quality agricultural data that are important to a state or region be collected and published.

Need and Use of the Information: NASS would like to conduct up to 10 surveys each year in response to requests from cooperators who have data needs that cannot be met through NASS's annual Congressional appropriations.

NASS would like to include surveys that would cover topics such as:

—Farm management practices,

—Food safety,

—Workplace safety,

—Conservation and land use practices,

—Chemical use management practices,

—Crop quality,

—Agri-tourism, local foods, or other specific agricultural promotion programs.

The summarized and published information will be analyzed by the sponsoring cooperators and stakeholders in agriculture. Results will be used to study

—production agriculture as well as

—various programs and policies to determine their impact on agricultural producers and consumers.

Description of Respondents: Private Sector; Businesses or other for-profits; Farms.

Number of Respondents: 225,000.

Frequency of Responses: Reporting: Annually.

Total Burden Hours: 111,512.

Levi S. Harrell,
Departmental Information Collection Clearance Officer.

[FR Doc. 2025-00372 Filed 1-8-25; 8:45 am]

BILLING CODE 3410-20-P